DEPARTMENT OF ENERGY

Federal Energy Regulatory Commission

Notice of Commission Staff Attendance

The Federal Energy Regulatory Commission hereby gives notice that members of the Commission's staff may attend the following meetings related to the transmission planning activities of the Midwest Independent Transmission System Operator, Inc. (MISO):

MISO Advisory Committee—April 18, 2012.

Order 1000—Right of First Refusal Task Team—April 26, 2012.

The above-referenced meeting will be held at: MISO Headquarters, 720 City Center Drive, Carmel, IN 46032.

The above-referenced meeting is open to the public.

Further information may be found at www.misoenergy.org.

The discussions at the meeting described above may address matters at issue in the following proceedings:

Docket No. ER12-715, Midwest Independent Transmission System Operator, Inc.

Docket No. ER12-480, Midwest Independent Transmission System Operator, Inc.

Docket No. ER12-309, Midwest Independent Transmission System Operator, Inc.

Docket No. ER11-1844, Midwest Independent Transmission System Operator, Inc.

Docket No. EL11-56, FirstEnergy Service Company.

Docket No. EL11-30, E.ON Climate & Renewables North America, LLC v. Midwest Independent Transmission System Operator, Inc.

Docket No. EL12-24-000, Pioneer Transmission LLC v. Midwest Independent Transmission System Operator, Inc.

Docket No. EL12-28-000, Xcel Energy Services Inc. v. American Transmission Company, LLC

Docket No. OA08-53, Midwest Independent Transmission System Operator, Inc.

For more information, contact Christopher Miller, Office of Energy Markets Regulation, Federal Energy Regulatory Commission at (317) 249-5936 or christopher.miller@ferc.gov.

Dated: April 17, 2012.
Nathaniel J. Davis, Sr.,
Deputy Secretary.

[FR Doc. 2012-9782 Filed 4-23-12; 8:45 am]

BILLING CODE 6717-01-P